DEPARTMENT OF AGRICULTURE

Forest Service

DEPARTMENT OF THE INTERIOR

Bureau of Land Management

Fish and Wildlife Service

Coeur d'Alene Basin Restoration Plan, Kootenai, Shoshone and Benewah Counties, Idaho

AGENCIES: Forest Service, USDA; Bureau of Land Management, USDOI; Fish and Wildlife Service, USDOI.

ACTION: Notice of intent (NOI) to prepare an environmental impact statement (EIS).

SUMMARY: In compliance with the National Environmental Policy Act of 1969, as amended (NEPA), and the Federal Land Policy and Management Act of 1976, as amended, the United States Department of the Interior (USDOI), United States Department of Agriculture (USDA), Coeur d'Alene Indian Tribe (Tribe), and the State of Idaho (State) intend to prepare an Environmental Impact Statement (EIS) and by this notice are announcing the beginning of the scoping process to solicit public comments and identify issues.

DATES: This notice initiates the public scoping process for NEPA analysis. Comments and input concerning the scope of the analysis must be received by August 12, 2013. The date(s) and location(s) of any scoping meetings will be announced at least 15 days in advance through local media, newspapers, and the project Web site “www.restorationpartnership.org”. In order to be included in the Draft EIS, all comments must be received prior to the close of the scoping period or 15 days after the last public meeting, whichever is later. We will provide additional opportunities for public participation upon publication of the Draft EIS. The Draft EIS is expected in May, 2014 and the Final EIS is expected in October, 2014.

ADDRESSES: You may submit comments related to the Coeur d'Alene Basin Restoration Plan by any of the following methods:

• Web site: www.restorationpartnership.org.

• Email: input@restorationpartnership.org.

• Mail: Restoration Partnership, 424 Sherman Ave, Suite 306, Coeur d'Alene, ID 83814.

• Fax: 1 (208) 667-0919.

FOR FURTHER INFORMATION CONTACT: Caj Matheson, Communications Specialist, 424 Sherman Ave, Suite 306, Coeur d'Alene, ID 83814; Email: caj@restorationpartnership.org; Phone: (208) 582-4080.

Individuals who use telecommunication devices for the deaf, hard-of-hearing, or speech disabled (Teletypewriter (TTY)/Telecommunications Device for the Deaf (TDD)/Voice relay) may call the Federal Information Relay Service (FIRS) at 1-800-877-8339 24 hours a day, 365 days per year.

SUPPLEMENTARY INFORMATION: For more than 100 years the Coeur d'Alene Basin (Basin), located in the Northern Idaho counties of Shoshone, Kootenai, and Benewah, has been one of the most productive silver, lead, and zinc mining areas in the United States. The majority of mining and mineral processing in the Basin occurred along the South Fork of the Coeur d'Alene River and its tributaries. The wastes generated by these operations contain metals, including lead, zinc, cadmium, and arsenic. A significant portion of these wastes were discharged directly into the Coeur d'Alene River and tributaries causing injury to natural resources.

The Comprehensive Environmental Response, Compensation, and Liability Act (CERCLA or “Superfund,” Title 42 United States Code [U.S.C.] Section 9601 et seq.) provides a mechanism for addressing the nation's hazardous waste sites: States, tribes, and the federal government may take legal action against polluters for the cleanup and restoration of sites. CERCLA provides for the designation of “natural resource trustees,” who are federal, state, or tribal authorities who represent the public interest in natural resources. These trustees may seek monetary damages from polluters for injury, destruction, or loss of natural resources resulting from releases of hazardous substances. These damages, which are distinct from cleanup costs, must be used by the natural resource trustees to restore, replace, rehabilitate, or acquire the equivalent of the natural resources that have been injured.

As a result of settlements and other legal findings, funds were received by the federal government, the Coeur d'Alene Indian Tribe, and the state of Idaho for two main purposes: (1) Clean-up of contamination (remediation); and (2) restoration of injured natural resources (waterfowl, fish, etc.). Responsibility for restoration lies with the trustees. Restoration activities will be coordinated closely with the remediation conducted by the U.S. Environmental Protection Agency (EPA).

Purpose and Need for Action

The purpose of the proposed action is restoration of the natural resources and services injured as a result of the release of mining related hazardous substances in the Basin. As discussed above, natural resources in the Basin have been injured due to the release of mining related hazardous substances.

Under CERCLA, damages recovered from parties responsible for natural resource injuries are used by the trustees “to restore, rehabilitate, replace, and/or acquire the equivalent of the injured resources” [42 U.S.C. 9607(f)(1)]. Restoration activities implemented by the trustees are typically subject to the requirements of the National Environmental Policy Act (NEPA) [42 U.S.C. 4321].

Proposed Action

The proposed action of this EIS is to adopt a restoration plan to coordinate and implement projects that will restore the health, productivity, and diversity of injured natural resources and the services they provide in the Basin.

Lead and Cooperating Agencies

Joint Lead Agencies are: Fish and Wildlife Service, USDOI; Bureau of Land Management, USDOI; Forest Service, USDA; COEUR D'ALENE INDIAN TRIBE; Department of Environmental Quality, IDAHO; Department of Fish and Game, IDAHO.

Responsible Officials

Regional Director, Region 1, U.S. Fish and Wildlife Service

Idaho State Director, Bureau of Land Management

Regional Forester, Region 1, U.S. Forest Service

Director, Coeur d'Alene Tribal Department of Natural Resources

Director, Idaho Department of Environmental Quality

Director, Idaho Department of Fish and Game

Nature of Decision To Be Made

The Trustees will adopt a restoration plan that will coordinate and implement projects to restore, replace, rehabilitate, or acquire the equivalent of the injured natural resources in the Basin and the services they provide.

Scoping Process

This notice of intent initiates the scoping process, which guides the development of the EIS. Further information on how and when input can be provided is specified in the ADRESSESS and DATES sections of this notice. It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: June 3, 2013.
Robyn Thorson,
Regional Director, Region 1, Authorized Official for the U.S. Department of Interior, U.S. Fish and Wildlife Service and Bureau of Land Management.
Dated: June 6, 2013.
Faye L. Krueger,
Regional Forester, Region 1, Authorized Official for U.S. Department of Agriculture, Forest Service.

[FR Doc. 2013-14032 Filed 6-12-13; 8:45 am]

BILLING CODE 3410-11-P